DEPARTMENT OF THE INTERIOR

Fish and Wildlife Service

50 CFR Part 21

RIN 1018-AI05

Release of Captive-Reared Mallards

AGENCY: Fish and Wildlife Service, Interior.

ACTION: Notice of intent.

SUMMARY: This document announces the intent of the U.S. Fish and Wildlife Service (hereinafter Service or we) to resume review of all aspects of regulations pertaining to the release and harvest of captive-reared mallards. Recently, all four Flyway Councils and the International Association of Fish and Wildlife Agencies (IAFWA) urged the Service to resume its review of the potential effects of releasing free-flighted mallards on State-licensed shooting preserves, also known as regulated shooting areas (RSA). The Service has agreed to this request and intends to complete its review of the Federal regulations (50 CFR 21.13) as published in the June 1993 Notice of Intent (58 FR 31247).

DATES: You must submit comments pertaining to regulations governing the release of captive-reared mallards by September 27, 2001.

ADDRESSES: Send your comments to the Chief, Division of Migratory Bird Management, U.S. Fish and Wildlife Service, Department of the Interior, room 634-Arlington Square, 1849 C Street, NW, Washington, DC 20240. All comments received, including names and addresses, will become part of the public record. You may inspect comments during normal business hours in room 634, Arlington Square Building, 4401 N. Fairfax Drive, Arlington, Virginia.

FOR FURTHER INFORMATION CONTACT: Jerome R. Serie, Atlantic Flyway Representative, Division of Migratory Bird Management, U.S. Fish and Wildlife Service, at 301/497-5851.

SUPPLEMENTARY INFORMATION: On June 1, 1993, we published in the Federal Register (58 FR 31247) a notice of intent to review all aspects of regulations pertaining to the release and harvest of captive-reared mallards and provided the public with background information. These regulations, stated in § 21.13 of title 50 of the Code of Federal Regulations (CFR), allow captive-reared mallards, provided they are properly marked prior to 6 weeks of age by removal of the right hind toe, banding with a seamless metal band, pinioning, or tattooing, to be possessed and disposed of in any number, at any time, by any person, without a permit. Further, this regulation stipulates that such birds may be killed by shooting only in accordance with all applicable hunting regulations governing the take of mallard ducks from the wild, with the exception provided; that such birds may be killed by shooting, in any number, at any time, within the confines of any premises operated as a shooting preserve under State license, permit, or authorization.

In the past, we have not opposed the shooting of captive-reared mallards on shooting preserves to supplement hunting opportunities for the public when precautions were taken to control the distribution of these birds. However, since 1985, this regulation has become more broadly interpreted and some shooting preserves actively release captive-reared mallards in large numbers in free-ranging situations on their premises. Often these properties are in areas frequented by wild ducks. Because both classes of mallards (captive-reared and wild) are indistinguishable until in the hand, regulatory conflicts arise from allowing free-ranging, captive-reared birds to be taken without bag limits during closed seasons for wild ducks. Similarly, regulations involving live decoys and baiting (50 CFR 20.21) become relevant, which necessitates a discretionary interpretation by enforcement personnel in the field.

Uncontrolled releases of thousands of free-flighted captive-reared mallards into areas inhabited by wild ducks pose a potential threat of disease transmission between captive-reared and wild birds. Highly infectious diseases, such as duck plague and avian cholera, are capable of causing large-scale losses in wild waterfowl. The influx of large numbers of captive-reared mallards into habitats managed for wild birds renders data-gathering activities by Federal, State, and Flyway waterfowl management programs less effective. There are no reliable methods of distinguishing between these classes in population and harvest surveys. These biases not only influence survey estimates but compromise Flyway harvest management strategies and the promulgation of hunting regulations for wild ducks.

Although the Service initiated its review and solicited input from State wildlife agencies in 1993, this effort was suspended because of provisions attached to the 1994 Congressional Appropriations Bill requesting the Service to withhold promulgation of any new regulations until further studies were completed. Since then, studies conducted by Louisiana State University and the National Wildlife Health Center have been completed, and results are available for consideration in this review (copies are available from the address indicated under the caption ADDRESSES). A primary focus of our review will be to assess the potential effects of these captive-reared mallard releases and harvest on the status and management of wild migratory waterfowl.

Public Comment Invited

Existing regulations, contained in § 21.13, lack specific criteria governing the release and control of captive-reared mallards on licensed shooting preserves and are thus subject to broad interpretation. As a result, numerous conflicts with established regulations governing the take of wild mallards and prohibiting the use of live decoys and baiting have occurred. In addition, aspects involving ownership and control are unclear when flighted, captive-reared birds are allowed to range freely over a wide area. Risks of disease transmission among wild ducks and confounding of data-gathering efforts by wildlife agencies for management of wild ducks are of concern.

The Service believes several options are available to alleviate potential conflicts and resolve management problems associated with captive-reared mallard release programs without adversely affecting the opportunities and operations on shooting preserves. Many of these options would require some modification of Federal regulations (50 CFR parts 20 and 21). The Service intends to explore these options and invites public comment on any options that may alleviate this problem. Comments may be sent to the address indicated under the caption ADDRESSES.

Authority

Under the Migratory Bird Treaty Act (16 U.S.C. 703-712), the Secretary of the Interior has responsibility for setting appropriate regulations for the hunting of migratory birds, with due regard for maintaining such populations in a healthy state and at satisfactory levels. The Fish and Wildlife Act of 1956 (16 U.S.C. 742 a-j) more specifically authorizes collection of such information as is necessary and to take steps as may be required to protect wildlife resources.

Dated: August 8, 2001.
Joseph E. Doddridge,
Acting Assistant Secretary for Fish and Wildlife and Parks.

[FR Doc. 01-21655 Filed 8-27-01; 8:45 am]

BILLING CODE 4310-55-P